DEPARTMENT OF COMMERCE

International Trade Administration

[A-428-844]

Carbon and Alloy Steel Cut-to-Length Plate From the Federal Republic of Germany: Final Results and Partial Rescission of the Antidumping Duty Administrative Review; 2016-2018

AGENCY: Enforcement and Compliance, International Trade Administration, Department of Commerce.

SUMMARY: The Department of Commerce (Commerce) finds that sales of certain carbon and alloy steel cut-to-length plate (CTL plate) from the Federal Republic of Germany (Germany) were made at less than normal value during the period of review (POR), November 14, 2016 through April 30, 2018.

DATES: Applicable July 5, 2019.

FOR FURTHER INFORMATION CONTACT: David Goldberger, AD/CVD Operations, Office II, Enforcement and Compliance, International Trade Administration, U.S. Department of Commerce, 1401 Constitution Avenue NW, Washington, DC 20230; telephone: (202) 482-4136.

SUPPLEMENTARY INFORMATION:

Background

This review covers imports by Ilsenburger Grobblech GmbH, Salzgitter Mannesmann Grobblech GmbH, Salzgitter Flachstahl GmbH, and Salzgitter Mannesmann International GmbH (collectively, Salzgitter). On February 27, 2019, Commerce published the preliminary results of the administrative review of the antidumping duty order on CTL plate from Germany.¹ We received a case brief from Salzgitter on March 29, 2019. No other party submitted a case or rebuttal brief.

¹ See Carbon and Alloy Steel Cut-to-Length Plate from the Federal Republic of Germany: Preliminary Results and Partial Rescission of the Antidumping Duty Administrative Review; 2016-2018, 84 FR 6372 (February 27, 2019) (Preliminary Results).

Scope of the Order

The products covered by the order are certain carbon and alloy steel hot-rolled or forged flat plate products not in coils, whether or not painted, varnished, or coated with plastics or other non-metallic substances from Germany. Products subject to the order are currently classified in the Harmonized Tariff Schedule of the United States (HTSUS) under item numbers: 7208.40.3030, 7208.40.3060, 7208.51.0030, 7208.51.0045, 7208.51.0060, 7208.52.0000, 7211.13.0000, 7211.14.0030, 7211.14.0045, 7225.40.1110, 7225.40.1180, 7225.40.3005, 7225.40.3050, 7226.20.0000, and 7226.91.5000. Although the HTSUS subheadings are provided for convenience and customs purposes, the written description of the merchandise subject to this scope is dispositive.²

² For a full description of the scope of the order, see Preliminary Results and accompanying Preliminary Decision Memorandum (PDM).

Analysis of Comments Received

The issue raised in the case brief is listed in the Appendix to this notice and addressed in the IDM.³ Interested parties can find a complete discussion of these issues and the corresponding recommendations in this public memorandum, which is on file electronically via Enforcement and Compliance's Antidumping and Countervailing Duty Centralized Electronic Service System (ACCESS). ACCESS is available to registered users at http://access.trade.gov, and is also available to all interested parties in the Central Records Unit, Room B8024, of the main Commerce building. In addition, a complete version of the IDM can be accessed directly at http://enforcement.trade.gov/frn/index.html. The signed IDM and the electronic version of the IDM are identical in content.

³ See Memorandum, “Issues and Decision Memorandum for the Final Results of the 2016-2018 Administrative Review of the Antidumping Duty Order on Certain Carbon and Alloy Steel Cut-to-Length Plate from the Federal Republic of Germany,” dated concurrently with, and hereby adopted by, this notice (IDM).

Final Results of the Review

As a result of this review, Commerce determines that a dumping margin of 174.03 percent exists for Salzgitter for the period November 14, 2016 through April 30, 2018.

Disclosure

Normally, Commerce discloses to interested parties the calculations performed in connection with the final results within five days of the date of publication of the notice of preliminary results in the Federal Register, in accordance with 19 CFR 351.224(b). However, there are no calculations to disclose in connection with these final results because, in accordance with section 776 of the Tariff Act of 1930, as amended (the Act), Commerce applied adverse facts available (AFA) to Salzgitter, the sole mandatory respondent, and Commerce determined as the AFA rate the highest dumping margin alleged in the Petition.⁴

⁴ See Preliminary Results, 84 FR at 6372, and PDM at “Application of Facts Available and Adverse Inferences.”

Assessment Rates

Pursuant to section 751(a)(2)(C) of the Act, and 19 CFR 351.212(b)(1), Commerce has determined, and U.S. Customs and Border Protection (CBP) shall assess, antidumping duties on all appropriate entries of subject merchandise in accordance with the final results of this review.

We intend to issue instructions to CBP 15 days after the publication date of the final results of this review.

Cash Deposit Requirements

The following cash deposit requirements will be effective for all shipments of the subject merchandise entered, or withdrawn from warehouse, for consumption on or after the publication date of the final results of this administrative review, as provided by section 751(a)(2)(C) of the Act: (1) The cash deposit rate for Salzgitter will be the rate established in the final results of this review; (2) for previously reviewed or investigated companies not participating in this review, the cash deposit rate will continue to be the company-specific rate published for the most recently-completed segment of this proceeding in which the company was reviewed; (3) if the exporter is not a firm covered in this review, a prior review, or the less-than-fair-value (LTFV) investigation, but the manufacturer is, the cash deposit rate will be the rate established for the most recently-completed segment of this proceeding for the producer of subject merchandise; and (4) the cash deposit rate for all other manufacturers or exporters will continue to be 21.04 percent, the “all others” rate established in the LTFV investigation.⁵ These deposit requirements, when imposed, shall remain in effect until further notice.

⁵ See Certain Carbon and Alloy Steel Cut-To-Length Plate from Austria, Belgium, France, the Federal Republic of Germany, Italy, Japan, the Republic of Korea, and Taiwan: Amended Final Affirmative Antidumping Determinations for France, the Federal Republic of Germany, the Republic of Korea and Taiwan, and Antidumping Duty Orders, 82 FR 24096 (May 25, 2017).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act.

Dated: June 27, 2019.
Jeffrey I. Kessler,
Assistant Secretary for Enforcement and Compliance.

Appendix—List of Topics Discussed in the IDM

I. Summary

II. Background

III. Discussion of the Issue

Comment 1: Termination of Review for Salzgitter

IV. Recommendation

[FR Doc. 2019-14339 Filed 7-3-19; 8:45 am]

BILLING CODE 3510-DS-P